DEPARTMENT OF TRANSPORTATION

Federal Aviation Administration

Public Notice for Waiver of Aeronautical Land-Use Assurance; J. Douglas Bake Memorial Airport (OCQ) Oconto, WI

AGENCY: Federal Aviation Administration, DOT.

ACTION: Notice of intent of waiver with respect to land.

SUMMARY: The Federal Aviation Administration (FAA) is considering a proposal to authorize the release of 0.32 acres of airport property (Parcel No. 18) at the J. Douglas Bake Memorial Airport, Oconto, WI.

Parcel No. 18 is located outside of the airport fence along the west edge of the airport and contains a part of a road used to access a land-locked parcel of private property located adjacent to the airport. Using the piece of airport property as an uncontrolled access road has resulted in a non-aeronautical use of airport property and a compliance issue for the airport. In addition, the uncontrolled access raises liability concerns for the airport. The land release would bring the airport into compliance with grant assurances and assure compatible land use. It would also remove the liability issue related to the unauthorized use of the access road.

A categorical exclusion for this land release action was prepared by Wisconsin Dept. of Transportation-Bureau of Aeronautics and issued on June 22, 2011.

The aforementioned land is not needed for aeronautical use. The parcel is depicted on the Airport Layout Plan and Exhibit “A” property map dated July 12, 2011. There are no impacts to the airport by allowing the airport to dispose of this parcel.

The subject parcel was originally acquired on September 10, 2002, as part of Airport Improvement Program grant No. 04 and is described in the warranty deed recorded in Volume 933 pages 480-481, Oconto County, Wisconsin. The value of the parcel is $600.

In accordance with section 47107(h) of title 49, United States Code, this notice is required to be published in the Federal Register 30 days before modifying the land-use assurance that requires the property to be used for an aeronautical purpose.

DATES: Comments must be received on or before December 14, 2012.

ADDRESSES: Mr. Daniel J. Millenacker, Program Manager, Federal Aviation Administration, Airports District Office, 6020 28th Avenue South, Room 102, Minneapolis, MN 55450-2706. Telephone Number (612) 253-4635; FAX Number (612) 253-4611; email address Daniel.J.Millenacker@FAA.GOV. Documents reflecting this FAA action may be reviewed at the following locations: Federal Aviation Administration, Minneapolis Airports District Office, 6020 28th Avenue South, Room 102, Minneapolis, MN 55450-2706; or Wisconsin Department of Transportation, 4802 Sheboygan Ave., Room 701, Madison, WI 53707.

FOR FURTHER INFORMATION CONTACT: Mr. Daniel J. Millenacker, Program Manager, Federal Aviation Administration, Airports District Office, 6020 28th Avenue South, Room 102, Minneapolis, MN 55450-2706. Telephone Number (612) 253-4635; FAX Number (612)253-4611; email address Daniel.J.Millenacker@FAA.GOV.

SUPPLEMENTARY INFORMATION: Following is a legal description of the subject airport property to be released at the J. Douglas Bake Memorial Airport in Oconto, Wisconsin:

Part of Government Lot 3, Section 26, Township 28 North, Range 21 East, Town of Oconto, Oconto County, Wisconsin.

Commencing at the North Quarter corner of Section 26; Thence South 87 degrees 35 minutes 26 seconds West, along the north line of section 26, a distance of 1333.25 feet; Thence South 00 degrees 22 minutes 17 seconds West along the west line of Government Lot 3, distance of 685.43 feet to the Point of Beginning. Thence continuing South 00 degrees 22 minutes 17 seconds West a distance of 504.34 feet; Thence South 89 degrees 36 minutes 17 seconds East a distance of 55.89 feet; Thence North 05 degrees 57 minutes 09 seconds West a distance of 507.45 feet to the Point of Beginning. Said parcel containing 0.32 Acres/14,094.3 Square Feet of land more or less.

Said parcel subject to all easements, restrictions, and reservations of record.

Issued in Minneapolis, MN, on October 15, 2012.
Steven J. Obenauer,
Manager, Minneapolis Airports District Office, FAA, Great Lakes Region.

[FR Doc. 2012-27662 Filed 11-13-12; 8:45 am]

BILLING CODE 4910-13-P